DEPARTMENT OF LABOR

Employment and Training Administration

[TA-W-38,739, TA-W-38,739A]

Allison Manufacturing Company, Albermarle, NC and Allison Manufacturing Company, New York, NY; Amended Certification Regarding Eligibility To Apply for Worker Adjustment Assistance

In accordance with Section 223 of the Trade Act of 1974 (19 U.S.C. 2273) the Department of Labor issued a Certification of Eligibility to Apply for Worker Adjustment Assistance on March 30, 2001, applicable to workers of Allison Manufacturing Company, Albermarle, North Carolina. The notice was published in the Federal Register on May 2, 2001 (66 FR 22006).

At the request of the company, the Department reviewed the certification for workers of the subject firm. The workers were engaged in providing corporate administrative functions to support the production of children's apparel. The company reports that worker separations have occurred at a second administrative office located in New York, New York. The New York, New York location provides administrative functions, including executive, art design and sales services, to the subject firm's production facilities.

Accordingly, the Department is amending the certification to included workers of Allison Manufacturing Company, New York, New York.

The intent of the Department's certification is to include all workers of Allison Manufacturing Company adversely affect by increased imports.

The amended notice applicable to TA-W-38,729 is hereby issued as follows:

All workers of Allison Manufacturing Company, Albermarle, North Carolina (TA-W-739) and New York, New York (TA-W-38,739A) who became totally or partially separated from employment on or after February 14, 2000 through March 30, 2003, are eligible to apply for adjustment assistance under Section 223 of the Trade Act of 1974.

Signed at Washington, DC, this 5th day of June, 2001.
Linda G. Poole,
Certifying Officer, Division of Trade Adjustment Assistance.

[FR Doc. 01-16161 Filed 6-26-01; 8:45 am]

BILLING CODE 4510-30-M